DEPARTMENT OF DEFENSE

Department of the Army

[Docket ID USA-2007-0014]

Proposed Collection; Comment Request

AGENCY: Army Corps of Engineers, Engineer Research and Development Center/Construction Engineering Research Laboratory (ERDC/CERL), DoD.

ACTION: Notice.

In compliance with Section 3506(c)(2)(A) of the Paperwork Reduction Act of 1995, the U.S. Army Corps of Engineers—ERDC/CERL announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 27, 2012.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Larry Pater, Ph.D., P.E., Program/Project Manager, Noise R&D, U.S. Army Engineer Research and Development Center (ERDC), Construction Engineering Research Laboratory (CERL), 2902 Farber Drive, Champaign, IL 61821.

Title and OMB Number: Assessing Human Response to Military Impulse Noise; OMB Control Number 0710—0015.

Needs and Uses: The information collection requirement is necessary to obtain information on the relationship between community annoyance and complaints, related to impulsive noise from military installations. The information will provide the necessary tools and guidance for military installations to effectively balance the need for training operations at military installations with public safety and welfare. Participation by respondents is strictly voluntary, and the surveys are intended solely (or primarily) to ensure that facilities can adequately respond to any concerns the public may have.

Affected Public: Individuals and households.

Annual Burden Hours

Year 1 (2007): 37.5 hours.

Year 2 (2008): 1,575 hours.

Year 3 (2009): 700 hours.

Year 4 (2010): 1,287.5 hours.

Year 5 (2011): 412.5 hours.

Total Number of Burden Hours for 5 Years: 4,012.5 hours.

Number of Respondents

Year 1 (2007): 75.

Year 2 (2008): 1,575.

Year 3 (2009): 575.

Year 4 (2010): 725.

Year 5 (2011): 25.

Total Number of Respondents for 5 Years: 2,975.

Responses per Respondent

Year 1

• 1 response for 50 Qualitative Personal Interview respondents in three locations (30 minutes per interview equaling 25 hours).

• 1 response for 25 baseline interviews for the respondents participating in the In-situ study at location #1 (30 minutes per interview equaling 12.5 hours).

Total Responses for Year 1: 75.

Year 2

• 16,750 (estimated) responses for 25 In-situ survey participants (670 responses per person) at location #1 (3 minutes per response equaling 837.5 hours).

• 1,225 responses for 1,050 General Community Survey (cross-sectional sample) respondents (30 minutes per survey equaling 612.5 hours).

○ 2 responses for 175 panel survey respondents at Site #1.

○ 1 response for 525 cross-sectional survey respondents at Site #1.

○ 1 response for 175 panel survey respondents at Site #2.

○ 1 response for 175 cross-sectional survey respondents at Site #2.

• 1 response for 500 complaint survey respondents (15 minutes per survey = 125 hours).

Total Responses for Year 2: 18,475.

Year 3

• 8,250 (estimated) responses for 25 In-situ survey respondents (330 responses per person) at location #1 (3 minutes per response equaling 412.5 hours).

• 1 response for 25 post measurement interviews for In-situ study participants at location #1 (30 minutes per interview equaling 12.5 hours).

• 1 response for 25 baseline interviews for the respondents participating in the In-situ study at location #2 (30 minutes per interview equaling 12.5 hours).

• 1 response for 525 General Community Survey respondents at Site #2 (30 minutes per survey equaling 262.5 hours).

○ 1 response for 175 panel survey respondents.

○ 1 response for 350 cross-sectional survey respondents.

Total Responses for Year 3: 8,825.

Year 4

• 16,750 (estimated) responses for 25 In-situ survey respondents (670 responses per person) at location #2 (3 minutes per response equaling 837.5 hours).

• 1 response for 25 post measurement interviews In-situ participants at location #2 (30 minutes per interview equaling 12.5 hours).

• 875 responses for General Community Survey at Site #3 (30 minutes per survey equaling 437.5 hours).

○ 2 responses for 175 panel survey respondents at Site #3.

○ 1 response for 525 cross-sectional survey respondents at Site #3.

Total Respones for Year 4: 17,650.

Year 5

• 8,250 (estimated) responses for 25 In-situ survey participants at Location #2 (330 responses per person) at location #2 (3 minutes per response equaling 412.5 hours).

Total Responses for Year 5: 8,250.

Total Number of Responses for 5 Years: 53,275.

Average Burden per Response

Qualitative Personal Interview: 30 minutes.

Baseline Interview: 30 minutes.

Post Measurement Interview: 30 minutes.

In-situ Survey: 3 minutes.

General Community Survey: 30 minutes.

Complaint Survey: 15 minutes.

Frequency of Responses

Qualitative Personal Interview: One time per installation.

Baseline Interview: One time per installation.

Post Measurement Interview: One time per installation.

In-situ Survey: On occasion for 12 months.

General Community Survey

Panel Sample: Two times per installation.

Cross-sectional sample: One time per installation.

Complaint Survey: One time per installation.

SUPPLEMENTARY INFORMATION:

Summary of Information Collection

Respondents are individuals living in the vicinity of selected military installations who regularly experience impulsive noise from explosions and heavy weapons blasts. Information collection includes several different surveys:

1. A qualitative personal interview to explore respondents experiences, understanding, and terminology to refine the survey questions (to be conducted at 2 installations).

2. An In-situ study where respondents are asked to respond to a brief set of 5-6 questions on a PDA whenever they experience an impulsive noise event (to be conducted at 2 installations).

3. A baseline interview for respondents participating in the In-situ study (to be conducted at 2 installations).

4. A post measurement interview for respondents participating in the In-situ study (to be conducted at 2 installations).

5. A general community survey to gather responses to questions about the impact of impulsive noise events from a large representative sample of community residents (to be conducted at 3 installations).

6. A complaint survey that gathers data on response to a specific noise event for which one or more complaints are received by the military installation. For each recorded noise complaint, a sample of 10 households in the immediate vicinity of the complainant, as well as the complainant will be surveyed (to be conducted at 1 installation).

The study will involve communities surrounding 3 different military installations to ensure the results and dose-response models can be generalized and applied to other U.S. military installations.

Participation by respondents is strictly voluntary, and the surveys are intended solely (or primarily) to ensure that facilities can adequately respond to any concerns the public may have.

Dated: December 21, 2011.
Aaron Siegel,
OSD Federal Register Liaison Officer, Department of Defense.

[FR Doc. 2011-33095 Filed 12-23-11; 8:45 am]

BILLING CODE 5001-06-P